SECURITIES AND EXCHANGE COMMISSION

17 CFR Parts 200, 210, 229, 230, 232, 239, 240, 242, 249, 270, 274, 275, and 279

[Release Nos. 33-11117, 34-96005, IA-6162, IC-34724; File Nos. S7-32-10, S7-18-21, S7-21-21, S7-22-21, S7-03-22, S7-08-22, S7-09-22, S7-10-22, S7-13-22, S7-16-22, S7-17-22, S7-18-22]

RINs 3235-AK77, 3235-AM34, 3235-AM72, 3235-AM80, 3235-AM87, 3235-AM89, 3235-AM90, 3235-AM94, 3235-AM95, 3235-AM96, 3235-AN01, 3235-AN07

Resubmission of Comments and Reopening of Comment Periods for Several Rulemaking Releases Due to a Technological Error in Receiving Certain Comments

AGENCY: Securities and Exchange Commission.

ACTION: Proposed rules; resubmission of comment letters; reopening of comment periods.

SUMMARY: Due to a technological error, a number of public comments submitted through the Securities and Exchange Commission's (“Commission” or “SEC”) internet comment form were not received by the Commission. The majority of the affected comments were submitted in August 2022; however, the technological error is known to have occurred as early as June 2021. All commenters who submitted a public comment to one of the affected comment files through the internet comment form between June 2021 and August 2022 are advised to check the relevant comment file posted on SEC.gov to determine whether their comment was received and posted. If a comment has not been posted, commenters should resubmit that comment by following the instructions provided below. To further ensure that interested persons, including any affected commenters, have the opportunity to comment on the affected releases or to resubmit comments, the Commission is reopening the comment periods for certain Commission rulemaking releases listed herein (collectively, “Rulemaking Releases”).

DATES: The comment periods for the Rulemaking Releases, published at 86 FR 69802 (Dec. 8, 2021) (reopened at 87 FR 11659 (March 2, 2022)), 87 FR 6652 (Feb. 4, 2022), 87 FR 7248 (Feb. 8, 2022), 87 FR 8443 (Feb. 15, 2022), 87 FR 14950 (Mar. 16, 2022), 87 FR 16590 (Mar. 23, 2022), 87 FR 16886 (Mar. 24, 2022) (reopened at 87 FR 29059 (May 12, 2022)), 87 FR 21334 (Apr. 11, 2022) (reopened at 87 FR 29059 (May 12, 2022)), 87 FR 29458 (May 13, 2022), 87 FR 36594 (June 17, 2022), 87 FR 36654 (June 17, 2022), and 87 FR 37254 (June 22, 2022), are reopened until November 1, 2022.

ADDRESSES: Comments may be submitted by any of the following methods:

Electronic Comments

• Use the Commission's internet comment form (https://www.sec.gov/rules/submitcomments.htm).

• Send an email to rule-comments@sec.gov.

Paper Comments

• Send paper comments to Vanessa A. Countryman, Secretary, Securities and Exchange Commission, 100 F Street NE, Washington, DC 20549-1090.

Please include the file number for the specific action being commented upon. This file number should be included on the subject line if email is used. To help the Commission process and review your comments more efficiently, please use only one method of submission. The Commission will post all comments on the Commission's website (https://www.sec.gov/rules/proposed.shtml). Comments are also available for website viewing and printing in the Commission's Public Reference Room, 100 F Street NE, Washington, DC 20549 on official business days between the hours of 10 a.m. and 3 p.m. Operating conditions may limit access to the Commission's Public Reference Room. All comments received will be posted without change. Persons submitting comments are cautioned that we do not redact or edit personal identifying information from comment submissions. You should submit only information that you wish to make available publicly.

FOR FURTHER INFORMATION CONTACT: J. Matthew DeLesDernier, Deputy Secretary, Office of the Secretary, at (202) 551-5400, Securities and Exchange Commission, 100 F Street NE, Washington, DC 20549-1090, or by email at Rule-Comments@sec.gov.

SUPPLEMENTARY INFORMATION: Due to a technological error, a number of public comments submitted through the Commission's internet form for the submission of comment letters ¹ were not received by the Commission and therefore were not posted in the relevant comment file. The majority of the affected comments were submitted in August 2022; however, a relatively small number of affected comments date from earlier months, and the technological error is known to have occurred as early as June 2021. The vast majority of the affected comments have now been received by the Commission and posted. To date, the staff's review of the available information indicates that the error only affected the comment files for the Rulemaking Releases and self-regulatory organization (“SRO”) matters identified in the tables below.² Commenters who submitted a public comment to any of these files through the internet comment form between June 2021 and August 2022 are advised to check the relevant comment file posted on SEC.gov to determine whether their comment was received and posted. If a comment has not been posted, commenters should resubmit that comment. Any resubmitted comment will be treated as if it were received on its original submission date. Comments already received and posted on the Commission website need not be resubmitted. If commenters have questions or concerns about whether their comment was received by the Commission, they should contact the SEC staff at the address, telephone number, or email address listed above.

¹ https://www.sec.gov/rules/submitcomments.htm.

² In the event the SEC staff determines that any other comment files were affected, the Commission will consider whether additional action is warranted.

To further ensure that interested persons, including any affected commenters, have the opportunity to comment on the releases or to resubmit comments, the Commission is reopening the comment periods for the following Rulemaking Releases, which SEC staff have identified as having comment files that were potentially affected by the technological error, until November 1, 2022:

Release title and identifying information (including Federal Register publication date) | Date comment period closed *
Reporting of Securities Loans (Release No. 34-93613; File No. S7-18-21), 86 FR 69802 (Dec. 8, 2021) | April 1, 2022.
Prohibition Against Fraud, Manipulation, or Deception in Connection with Security-Based Swaps; Prohibition against Undue Influence over Chief Compliance Officers; Position Reporting of Large Security-Based Swap Positions (Release No. 34-93784; File No. S7-32-10), 87 FR 6652 (Feb. 4, 2022) | March 21, 2022.
Money Market Fund Reforms (Release No. IC-34441; File No. S7-22-21), 87 FR 7248 (Feb. 8, 2022) | April 11, 2022.
Share Repurchase Disclosure Modernization (Release Nos. 34-93783, IC-34440; File No. S7-21-21), 87 FR 8443 (Feb. 15, 2022) | April 1, 2022.
Short Position and Short Activity Reporting by Institutional Investment Managers (Release No. 34-94313; File No. S7-08-22), 87 FR 14950 (Mar. 16, 2022); see also Notice of the Text of the Proposed Amendments to the National Market System Plan Governing the Consolidated Audit Trail for Purposes of Short Sale-Related Data Collection (Release No. 34-94314; File No. S7-08-22), 87 FR 15022 (Mar. 16, 2022) | April 26, 2022.
Cybersecurity Risk Management, Strategy, Governance, and Incident Disclosure (Release Nos. 33-11038, 34-94382, IC-34529; File No. S7-09-22), 87 FR 16590 (Mar. 23, 2022) | May 9, 2022.
Private Fund Advisers; Documentation of Registered Investment Adviser Compliance Reviews (Release No. IA-5955; File No. S7-03-22), 87 FR 16886 (Mar. 24, 2022) | June 13, 2022.
The Enhancement and Standardization of Climate-Related Disclosures for Investors (Release Nos. 33-11042, 34-94478; File No. S7-10-22), 87 FR 21334 (Apr. 11, 2022) | June 17, 2022.
Special Purpose Acquisition Companies, Shell Companies, and Projections (Release Nos. 33-11048, 34-94546, IC-34549; File No. S7-13-22), 87 FR 29458 (May 13, 2022) | June 13, 2022.
Investment Company Names (Release Nos. 33-11067, 34-94981, IC-34593; File No. S7-16-22), 87 FR 36594 (June 17, 2022) | August 16, 2022.
Enhanced Disclosures by Certain Investment Advisers and Investment Companies About Environmental, Social, and Governance Investment Practices (Release Nos. 33-11068, 34-94985, IA-6034, IC-34594; File No. S7-17-22), 87 FR 36654 (June 17, 2022) | August 16, 2022.
Request for Comment on Certain Information Providers Acting as Investment Advisers (Release Nos. IA-6050, IC-34618; File No. S7-18-22), 87 FR 37254 (June 22, 2022) | August 16, 2022.
* With respect to releases that were previously reopened for public comment, the date in this column reflects the close of the most recent comment period.

The technological error also may have affected certain comments with respect to the following SRO matters. The Commission will evaluate any comments resubmitted with respect to these matters and consider whether further action is warranted.

File No. | File description
SR-BOX-2022-08 | BOX Exchange LLC; Proposed Rule Change, as Modified by Amendment No. 1, to Amend Rule 12140 (Imposition of Fines for Minor Rule Violations), to Expand the List of Violations Eligible for Disposition under the Exchange's Minor Rule Violation Plan and to Update the Fine Schedule Applicable to Minor Violations of Certain Rules.
SR-CboeBZX-2021-083 | Cboe BZX Exchange, Inc.; Proposed Rule Change, as Modified by Amendment No. 2, to Amend Rule 25.3, Which Governs the Exchange's Minor Rule Violation Plan, in Connection with Certain Minor Rule Violations and Applicable Fines.
SR-FINRA-2022-017 | Financial Industry Regulatory Authority, Inc.; Proposed Rule Change to Amend FINRA Rule 6750 Regarding the Publication of Aggregated Transaction Information on U.S. Treasury Securities.
SR-FINRA-2022-024 | Financial Industry Regulatory Authority, Inc.; Proposed Rule Change To Amend the Codes of Arbitration Procedure to Modify the Current Process Relating to the Expungement of Customer Dispute Information.
SR-MEMX-2021-10 | MEMX LLC; Proposed Rule Change to Establish a Retail Midpoint Liquidity Program.
SR-NYSEARCA-2022-52 | NYSE Arca, Inc.; Proposed Rule Change to Amend Rule 6.64P-O.
SR-NYSENAT-2021-19 | NYSE National, Inc.; Proposed Rule Change to Extend the Pilot Related to the Market-Wide Circuit Breaker in Rule 7.12.
SR-OCC-2022-802 | The Options Clearing Corporation; Advance Notice Related to a Master Repurchase Agreement as Part of The Options Clearing Corporation's Overall Liquidity Plan.

By the Commission.
Dated: October 7, 2022.
Vanessa A. Countryman,
Secretary.

[FR Doc. 2022-22295 Filed 10-17-22; 8:45 am]

BILLING CODE 8011-01-P